DEPARTMENT OF AGRICULTURE

Animal and Plant Health Inspection Service

[Docket No. APHIS-2017-0066]

Notice of Request for Revision to and Extension of Approval of an Information Collection; Plants for Planting Regulations

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the plants for planting regulations.

DATES: We will consider all comments that we receive on or before October 30, 2017.

ADDRESSES: You may submit comments by either of the following methods:

• Federal eRulemaking Portal: Go to http://www.regulations.gov/#!documentDetail;D=APHIS-2017-0066.

• Postal Mail/Commercial Delivery: Send your comment to Docket No. APHIS-2017-0066, Regulatory Analysis and Development, PPD, APHIS, Station 3A-03.8, 4700 River Road Unit 118, Riverdale, MD 20737-1238.

Supporting documents and any comments we receive on this docket may be viewed at http://www.regulations.gov/#!docketDetail;D=APHIS-2017-0066 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the plants for planting regulations, contact Ms. Lydia Colon, Senior Regulatory Policy Specialist, PPQ, PHP, APHIS, 4700 River Road Unit 133, Riverdale, MD 20737-1231; (301) 851-2302. For copies of more detailed information on the information collection, contact Ms. Kimberly Hardy, APHIS' Information Collection Coordinator, at (301) 851-2483.

SUPPLEMENTARY INFORMATION:

Title: Plants for Planting Regulations.

OMB Control Number: 0579-0190.

Type of Request: Revision to and extension of approval of an information collection.

Abstract: As authorized by the Plant Protection Act (PPA, 7 U.S.C. 7701 et seq.), the Secretary of Agriculture, either independently or in cooperation with States, may carry out operations or measures to detect, eradicate, suppress, control, prevent, or retard the spread of plant pests that are new to or not widely distributed within the United States. This authority has been delegated to the Animal and Plant Health Inspection Service (APHIS) of the U.S. Department of Agriculture.

APHIS regulations contained in “Subpart—Plants for Planting” (7 CFR 319.37 through 319.37-14) prohibit or restrict, among other things, the importation of living plants, plant parts, and seeds for propagation. In accordance with these regulations, plants for planting from certain parts of the world may be imported into the United States only under certain conditions to prevent the introduction of plant pests into the United States. Individuals who are involved in growing, exporting, and importing plants for planting must provide information to APHIS about the commodities they wish to bring into the United States. Implementing APHIS' nursery stock regulations requires APHIS to collect information from a variety of individuals who are involved in growing, exporting, and importing nursery stock. This information includes permits, foreign site certificates of inspection and/or treatment; written requests to APHIS for permission to move, propagate, or allow propagation of regulated articles; markings and identification of regulated articles; phytosanitary certificates; grower and production site registrations; inspections, lists, reinstatements/reapprovals; and trust fund agreements. The information APHIS collects serves as the supporting documentation needed to issue required PPQ forms and documents that allow importation of nursery stock and is vital to helping APHIS ensure that plant pests are not introduced into the United States.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.516 hours per response.

Respondents: Importers, exporters, and growers of plants for planting; and the national plant protection organization of each exporting country.

Estimated annual number of respondents: 44.

Estimated annual number of responses per respondent: 245.

Estimated annual number of responses: 10,769.

Estimated total annual burden on respondents: 5,557 hours. (Due to averaging, the total annual burden hours may not equal the product of the annual number of responses multiplied by the reporting burden per response.)

All responses to this notice will be summarized and included in the request for OMB approval. All comments will also become a matter of public record.

Done in Washington, DC, this 23rd day of August 2017.
Jere L. Dick,
Acting Administrator, Animal and Plant Health Inspection Service.

[FR Doc. 2017-18279 Filed 8-28-17; 8:45 am]

BILLING CODE 3410-34-P